DEPARTMENT OF ENERGY

Federal Energy Regulatory Commission

Notice of Filings

June 21, 2006.

Take notice that the Commission received the following electric corporate filings:

Docket Numbers: EC06-131-000.

Applicants: Sunbury Generation, LLC; Sunbury Holdings, LLC; Corona Power, LLC.

Description: Sunbury Generation, LLC, et al submit their joint application for authorization to transfer 100% of membership interests to Corona Power, LLC, pursuant to Section 203 of the Federal Power Act.

Filed Date: 6/15/2006.

Accession Number: 20060620-0109.

Comment Date: 5 p.m. Eastern Time on Thursday, July 6, 2006.

Docket Numbers: EC06-132-000.

Applicants: Southern Power Company; Rowan County Power, LLC; Progress Genco Ventures, LLC; Progress County Power, LLC

Description: Southern Power Company; et al, submit a joint application for approval of the disposition of jurisdictional facilities pursuant to Section 203 of the Federal Power Act.

Filed Date: 6/16/2006.

Accession Number: 20060620-0232.

Comment Date: 5 p.m. Eastern Time on Friday, July 7, 2006.

Docket Numbers: EC06-133-000.

Applicants: Fox Energy Company LLC; Calpine Fox LLC.

Description: Calpine Fox LLC and Fox Energy Co LLC submit a joint application for authorization to dispose of jurisdictional facilities, pursuant to Section 203 of the Federal Power Act.

Filed Date: 6/15/2006.

Accession Number: 20060620-0344.

Comment Date: 5 p.m. Eastern Time on Thursday, July 6, 2006.

Take notice that the Commission received the following electric rate filings:

Docket Numbers: ER00-980-013.

Applicants: Bangor Hydro-Electric Company.

Description: Bangor Hydro-Electric Co submits an informational filing showing the implementation of their formula rate for the charges that became effective 6/1/06.

Filed Date: 6/15/2006.

Accession Number: 20060620-0114.

Comment Date: 5 p.m. Eastern Time on Thursday, July 6, 2006.

Docket Numbers: ER00-1053-018.

Applicants: Maine Public Service Company.

Description: Maine Public Service Co submits an informational filing setting forth the changed open access transmission tariff charges effective 6/1/06 with back-up materials.

Filed Date: 6/15/2006.

Accession Number: 20060620-0103.

Comment Date: 5 p.m. Eastern Time on Thursday, July 6, 2006.

Docket Numbers: ER03-683-010.

Applicants: California Independent System Operator.

Description: California Independent System Operator Corp submits an Update re the Provision of Refunds, pursuant to Commission Order issued 5/30/03.

Filed Date: 6/15/2006.

Accession Number: 20060620-0102.

Comment Date: 5 p.m. Eastern Time on Thursday, July 6, 2006.

Docket Numbers: ER04-691-076.

Applicants: Midwest Independent Transmission System Operator, Inc.

Description: Midwest Independent Transmission System Operator, Inc. submits proposed revisions to Section 38.9.1(A) of its OAT&EM Tariff, Third Revised Volume No. 1.

Filed Date: 6/15/2006.

Accession Number: 20060616-0292.

Comment Date: 5 p.m. Eastern Time on Thursday, July 6, 2006.

Docket Numbers: ER05-6-069; EL04-135-072; EL02-111-089; EL03-212-085.

Applicants: Midwest Independent Transmission System Operator, Inc.; PJM Interconnection, L.L.C.; Ameren Services Company.

Description: PJM Transmission Owners submits a revision to its Attachment R tariff sheets, correcting the applicable 2002 Lost Revenues numbers for its 5/26/06 filing.

Filed Date: 6/15/2006.

Accession Number: 20060616-0293.

Comment Date: 5 p.m. Eastern Time on Thursday, July 6, 2006.

Docket Numbers: ER05-1284-002.

Applicants: Pacific Gas & Electric Company.

Description: Pacific Gas and Electric Co submits its corrected tariff sheets 60-73 in compliance with the Commission's 5/19/06 order.

Filed Date: 6/16/2006.

Accession Number: 20060616-0294.

Comment Date: 5 p.m. Eastern Time on Friday, July 7, 2006.

Docket Numbers: ER06-734-001.

Applicants: Midwest Independent Transmission System Operator, Inc.

Description: Midwest Independent Transmission System Operator, Inc. submits a Large Generator Interconnection Agreement with FPL Energy Green Lake Wind and American Transmission Co. LLC in compliance with FERC's 5/16/06 Order.

Filed Date: 6/15/2006.

Accession Number: 20060616-0295.

Comment Date: 5 p.m. Eastern Time on Thursday, July 6, 2006.

Docket Numbers: ER06-818-001.

Applicants: San Diego Gas & Electric Company.

Description: San Diego Gas & Electric Co submits revised tariff sheets to reflect its ISO Wholesale TRBAA, pursuant to FERC's letter order issued 5/31/06.

Filed Date: 6/15/2006.

Accession Number: 20060616-0299.

Comment Date: 5 p.m. Eastern Time on Thursday, July 6, 2006.

Docket Numbers: ER06-900-001.

Applicants: Vermont Transco L.L.C; Central Vermont Public Service Corporation; Green Mountain Power Corporation.

Description: Vermont Transco, LLC et al submits additional signatures and substitute pages to correct their 4/21/06 filing.

Filed Date: 6/9/2006.

Accession Number: 20060620-0104.

Comment Date: 5 p.m. Eastern Time on Friday, June 30, 2006.

Docket Numbers: ER06-1126-000.

Applicants: Southern California Edison Company.

Description: Southern California Edison Co submits the amended and restated Mutual Assistance Transmission Service Agreement with San Diego Gas & Electric Co and Imperial Irrigation District et al.

Filed Date: 6/13/2006.

Accession Number: 20060616-0015.

Comment Date: 5 p.m. Eastern Time on Wednesday, July 5, 2006.

Docket Numbers: ER06-1138-000.

Applicants: Fox Energy Company LLC.

Description: Fox Energy Co, LLC submits its application for market-based rate authority under section 205 of the FPA, for authority to amend rate schedule for the sales of reactive power and expedited consideration for waivers and pre-approvals.

Filed Date: 6/15/2006.

Accession Number: 20060620-0105.

Comment Date: 5 p.m. Eastern Time on Thursday, July 6, 2006.

Docket Numbers: ER06-1139-000.

Applicants: Southern California Edison Company.

Description: Southern California Edison Co submits a Service Agreement for Wholesale Distribution Service with the City of Corona, California.

Filed Date: 6/16/2006.

Accession Number: 20060620-0101.

Comment Date: 5 p.m. Eastern Time on Friday, July 7, 2006.

Docket Numbers: ER06-1141-000.

Applicants: American Electric Power Service Corporation; Indianan and Michigan Power Company.

Description: Indiana and Michigan Power Co submits its Interconnection and Local Delivery Service Agreement with the Village of Paw Paw, Michigan.

Filed Date: 6/16/2006.

Accession Number: 20060620-0313.

Comment Date: 5 p.m. Eastern Time on Friday, July 7, 2006.

Docket Numbers: ER06-1143-000.

Applicants: MATEP LLC.

Description: MATEP LLC submits its application for market-based rate authority for its FERC Electric Tariff, Original Volume 1.

Filed Date: 6/16/2006.

Accession Number: 20060620-0311.

Comment Date: 5 p.m. Eastern Time on Friday, July 7, 2006.

Docket Numbers: ER06-1144-000.

Applicants: PJM Interconnection, LLC.

Description: PJM Interconnection, LLC submits its Interconnection Service Agreement with Brookfield Power Piney & Deep Creek LLC and Pennsylvania Electric Co.

Filed Date: 6/16/2006.

Accession Number: 20060620-0335.

Comment Date: 5 p.m. Eastern Time on Friday, July 7, 2006.

Docket Numbers: ER06-1145-000.

Applicants: Xcel Energy Services Inc.; Public Service Company of Colorado.

Description: Public Service Co of Colorado submits an Amended and Restated Agreement for Interconnection Service with Blue Spruce Energy Center, LLC.

Filed Date: 6/16/2006.

Accession Number: 20060620-0310.

Comment Date: 5 p.m. Eastern Time on Friday, July 7, 2006.

Take notice that the Commission received the following electric securities filings:

Docket Numbers: ES06-53-000.

Applicants: MDU Resources Group, Inc.

Description: MDU Resources Group, Inc submits its application for authority to issue additional 4, 343,295 shares of Company Common Stock in connection with the Long-Term Performance-Based Incentive Plan.

Filed Date: 6/7/2006.

Accession Number: 20060614-0078.

Comment Date: 5 p.m. Eastern Time on Wednesday, June 28, 2006.

Take notice that the Commission received the following foreign utility company status filings:

Docket Numbers: FC06-12-000.

Applicants: Brookfield Asset Management Inc.

Description: Brookfield Asset Management, on behalf of its direct and indirect subsidiaries, submits a Notice of Self-Certification of Foreign Utility Company Status, pursuant to sections 366.1 and 366.7(a) of the Regulations.

Filed Date: 6/15/2006.

Accession Number: 20060615-5029.

Comment Date: 5 p.m. Eastern Time on Thursday, July 6, 2006.

Docket Numbers: FC06-14-000.

Applicants: Centrica Barry Limited, Barrow Offshore Wind Limited; Braes of Doune Wind Farm (Scotland) Limited; Centrica (DSW) Limited; Centrica (IDW) Limited; Centrica (Lincs) Limited; Centrica (RBW) Limited; Centrica Brigg Limited; Centrica KL Limited; Centrica Langage Limited; Centrica KPS Limited; Centrica PB Limited; Centrica RPS Limited; Centrica SHB Limited; Glens of Foundland Windfarm Limited; Segebel SA.

Description: Centrica Barry Limited, et al submit a Notice of Self-Certification of Foreign Utility Company Status, pursuant to Section 366.1 of PUHCA of 2005.

Filed Date: 6/15/2006.

Accession Number: 20060615-5077.

Comment Date: 5 p.m. Eastern Time on Thursday, July 6, 2006.

Take notice that the Commission received the following public utility holding company filings:

Docket Numbers: PH06-84-000.

Applicants: EnergySouth, Inc.

Description: EnergySouth, Inc. submits its Exemption Notification pursuant to Section 366.1 of PUCHA of 2005.

Filed Date: 6/15/2006.

Accession Number: 20060615-5015.

Comment Date: 5 p.m. Eastern Time on Thursday, July 6, 2006.

Docket Numbers: PH06-85-000.

Applicants: Barrick Gold Corporation; Barrick Goldstrike Mines, Inc.

Description: Barrick Gold Corp and Barrick Goldstrike Mines, Inc. submit their Exemption notification of section 366.3(b)(2)(iii) of PUHCA of 2005.

Filed Date: 6/15/2006.

Accession Number: 20060615-5024.

Comment Date: 5 p.m. Eastern Time on Thursday, July 6, 2006.

Docket Numbers: PH06-86-000.

Applicants: PG&E Corporation.

Description: PG&E Corporation submits its Waiver Notification of Status as a Single-State Holding Co. System; pursuant to sections 366.21, 366.22, and 366.23 of PUHCA of 2005.

Filed Date: 6/15/2006.

Accession Number: 20060615-5040.

Comment Date: 5 p.m. Eastern Time on Thursday, July 6, 2006.

Docket Numbers: PH06-87-000.

Applicants: Trans-Elect, Inc.; Trans-Elect Holding Company; Trans-Elect Michigan, LLC; Michigan Transco Holdings, Limited Partnership.

Description: Trans-Elect Holding Company, et al, submit their Notification of Wavier of sections 3.66.21, 366.22, and 366.23 of PUHCA of 2005.

Filed Date: 6/15/2006.

Accession Number: 20060615-5041.

Comment Date: 5 p.m. Eastern Time on Thursday, July 6, 2006.

Docket Numbers: PH06-88-000.

Applicants: Merrill Lynch & Company, Inc.

Description: Merrill Lynch & Co, Inc submits a notification of exemption of sections 366.3(a) and 366.3(b) of PUHCA of 2005.

Filed Date: 6/15/2006.

Accession Number: 20060616-0311.

Comment Date: 5 p.m. Eastern Time on Thursday, July 6, 2006.

Docket Numbers: PH06-89-000.

Applicants: Energy West Resources, Inc.

Description: Energy West Inc. submits a request for exemption of section 366.3 of PUHCA of 2005.

Filed Date: 6/15/2006.

Accession Number: 20060616-0298.

Comment Date: 5 p.m. Eastern Time on Thursday, July 6, 2006.

Docket Numbers: PH06-90-000.

Applicants: Horizon Asset Management, Inc.

Description: Horizon Asset Management, Inc submits its notification of exemption of section 366.3(b)(2)(i)(C) of PUHCA of 2005.

Filed Date: 6/15/2006.

Accession Number: 20060616-0310.

Comment Date: 5 p.m. Eastern Time on Thursday, July 6, 2006.

Docket Numbers: PH06-91-000.

Applicants: Ironhill Transmission, LLC; International Transmission Holdings Limited Partnership; ITC Holdings Corp.

Description: Ironhill Transmission, LLC, et al submit a Joint Waiver Notification of Sections 366.(c)(3), 366.3(c)(1) and 366.5(c)(1) of PUHCA of 2005.

Filed Date: 6/15/2006.

Accession Number: 20060615-5088.

Comment Date: 5 p.m. Eastern Time on Thursday, July 6, 2006.

Docket Numbers: PH06-92-000.

Applicants: UIL Holdings Corporation.

Description: UIL Holdings Corporation submits a Waiver Notification of sections 366.3(c)(1) and 366.4(c)(1) of PUHCA 2005.

Filed Date: 6/15/2006.

Accession Number: 20060615-5094.

Comment Date: 5 p.m. Eastern Time on Thursday, July 6, 2006.

Docket Numbers: PH06-93-000.

Applicants: Brookfield Asset Management Inc.

Description: Brookfield Asset Management Inc. submits an exemption notification of section 366.4(b)(1) of PUHCA of 2005.

Filed Date: 6/15/2006.

Accession Number: 20060615-5103.

Comment Date: 5 p.m. Eastern Time on Thursday, July 6, 2006.

Docket Numbers: PH06-94-000.

Applicants: ATC Management Inc.

Description: ATC Management Inc. submits its Waiver Notification of sections 366.3 and 366.4 of PUHCA of 2005.

Filed Date: 6/15/2006.

Accession Number: 20060615-5114.

Comment Date: 5 p.m. Eastern Time on Thursday, July 6, 2006.

Docket Numbers: PH06-95-000.

Applicants: AES Corporation.

Description: AES Corporation submits a Waiver Notification of Status as Single-State Holding Co. System pursuant to sections 366.4(c)(1), et al. of PUHCA.

Filed Date: 6/15/2006.

Accession Number: 20060615-5115.

Comment Date: 5 p.m. Eastern Time on Thursday, July 6, 2006.

Docket Numbers: PH06-96-000.

Applicants: Pinnacle West Capital Corporation.

Description: Pinnacle West Capital Corporation submits its Public Utility Holding Company Act of 2005 Waiver Request.

Filed Date: 6/15/2006.

Accession Number: 20060616-5044.

Comment Date: 5 p.m. Eastern Time on Thursday, July 6, 2006.

Docket Numbers: PH06-97-000.

Applicants: ArcLight Capital Holdings, LLC.

Description: ArcLight Capital Holdings, LLC submits its exemption notification of section 366.4(b)(1) of Regulations.

Filed Date: 6/15/2006.

Accession Number: 20060615-4009.

Comment Date: 5 p.m. Eastern Time on Thursday, July 6, 2006.

Docket Numbers: PH06-98-000.

Applicants: National Fuel Gas Company.

Description: National Fuel Gas Co. submits its Waiver Notification pursuant to the Commission's Order 667 under the Public Utility Holding Company Act of 2005.

Filed Date: 6/15/2006.

Accession Number: 20060620-0204.

Comment Date: 5 p.m. Eastern Time on Thursday, July 6, 2006.

Docket Numbers: PH06-99-000.

Applicants: LGB Cap Rock LLC.

Description: LGB Cap Rock LLC submits Waiver Notification pursuant to the Commission's Regulations under the Public Utility Holding Company Act of 2005.

Filed Date: 6/15/2006.

Accession Number: 20060620-0203.

Comment Date: 5 p.m. Eastern Time on Thursday, July 6, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC.

There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-10489 Filed 7-5-06; 8:45 am]

BILLING CODE 6717-01-P